ENVIRONMENTAL PROTECTION AGENCY

[ER-FRL-6607-7]

Environmental Impact Statements; Notice of Availability

Responsible Agency: Office of Federal Activities, General Information (202) 564-7167 or www.epa.gov/oeca/ofa

Weekly receipt of Environmental Impact Statements Filed May 22, 2000 Through May 26, 2000 Pursuant to 40 CFR 1506.9.

EIS No. 000157, DRAFT EIS, AFS, MT, Rocky Mountain Front Mineral Withdrawal, Implementation, Helena and Lewis and Clark National Forests, Great Falls, MT, Due: July 17, 2000, Contact: Rick Prausa (406) 791-7720.

EIS No. 000158, FINAL EIS, HUD, CA, City of Monterey Park Project, Construction and Operation of the Monterey Park Towne Plaza, North of the Pomona Freeway and west of Paramount Boulevard, Los Angeles County, CA, Due: July 03, 2000, Contact: Ray Hanada (626) 307-1463.

EIS No. 000159, FINAL EIS, BLM, WY, Pinedale Anticline Oil and Gas Exploration and Development Natural Gas Wells Project, Implementation,

Sublette County, WY, Due: July 05, 2000, Contact: Joe Patti (307) 775-6101.

EIS No. 000160, DRAFT EIS, FHW, WV, Shawnee Highway Project, Construction between the Ghent Interchange of I-787 in the North and McDowell County 14 or McDowell County 17 in the South, Funding, McDowell, Raleigh and Wyoming Counties, WV, Due: July 28, 2000, Contact: Thomas J. Smith (304) 347-5928.

EIS No. 000161, DRAFT EIS, NPS, MA, Boston Harbor Islands National Recreation Area, Implementation, General Management Plan, Boston, MA, Due: August 01, 2000, Contact: George Price (617) 223-8666.

EIS No. 000162, FINAL EIS, BLM, CA, Soledad Canyon Sand and Gravel Mining Project, Proposal to Mine, Produce and Sell, “Split Estate” Private Owned and Federally Owned Lands, Transit Mixed Concrete, Los Angeles County, CA, Due: July 03, 2000, Contact: Elena Misquez (460) 251-4810.

EIS No. 000163, DRAFT EIS, COE, MS, Destination Broadwater Project, Proposed Redevelopment and Construction of a large-scale Casino Destination Resort in Biloxi, Approval of Permits for Section 10 of the River and Harbor Act and Section 404 of the CWA, Harrison County, MS, Due: July 17, 2000, Contact: Susan Ivester Rees (334) 694-4141.

EIS No. 000164, FINAL EIS, FAA, CT, Tweed-New Haven Airport Runway Safety Area and Taxiway Improvements, Safety Improvements to Runway 2/20 and Taxiways ‘B’ and ‘E’, Funding, COE Section 10 and 404 Permits, New Haven County, CT, Due: July 03, 2000, Contact: John Silva (781) 238-7602.

EIS No. 000165, DRAFT EIS, USN, HI, North Pacific Acoustic Laboratory Project, Reuse of Low Frequency Sound Source and Cable for Use in Acoustic Thermometry of Ocean Climate (ATOC) Research, Kauai, HI, Due: July 17, 2000, Contact: Dr. Jeff Simmen (703) 696-4204.

EIS No. 000166, DRAFT EIS, FTA, PA, North Shore Connector, Extending existing Light Rail Transit (LRT) System from Golden Triangle of downtown Pittsburgh to the North Shore, Funding, USCG Bridge Permit, NPDES Permit, and COE Section 10 and 404 Permits, Allegheny County, PA, Due: July 17, 2000, Contact: Robin Mayhew (215) 656-7100.

EIS No. 000167, FINAL EIS, FHW, NY, Albany Shaker Road and Watervliet Shakey Road Improvement Project, Construction and Reconstruction, Funding and COE Section 404 Permit, Town of Colonie, Albany County, NY, Due: July 03, 2000, Contact: Harold J. Brown (518) 431-4127.

EIS No. 000168, DRAFT EIS, AFS, ID, Starbucky Restoration Project, Implementation of Vegetative Treatment, Road Construction and Watershed Improvements, Nez Perce National Forest, Red River Ranger District, Idaho County, ID, Due: July 17, 2000, Contact: Kevin Martin (202) 842-2245.

EIS No. 000169, DRAFT EIS, AFS, NV, CA, Northern Sierra Amendment to the Toiyabe Land and Resource Management, To Unify and Revise Management Direction, Humboldt-Toiyabe National Forest, Carson Ranger District, Stanislaus National Forest, Lake Tahoe Basin Management Unit, Douglas and Washoe Counties, NV and Alpine and Toulomne Counties, CA, Due: August 31, 2000, Contact: Dave Loomis (775) 882-2766.

Dated: May 30, 2000.
Ken Mittelholtz,
Environmental Protection Specialist, Office of Federal Activities.

[FR Doc. 00-13888 Filed 6-1-00; 8:45 am]

BILLING CODE 6560-50-U